NATIONAL AERONAUTICS AND SPACE ADMINISTRATION

14 CFR Part 1204

[Notice (02-085)]

RIN 2700—AC54

Delegation of Authority

AGENCY: National Aeronautics and Space Administration (NASA).

ACTION: Final rule.

SUMMARY: NASA adds section 506 in Part 1204, Subpart 5 delegating the authority of the NASA Administrator to the Assistant Administrator for Public Affairs, without authority for further delegation, to license the use of the Centennial of Flight Commission name on any logo, emblem, seal, or descriptive or designating mark adopted under the Centennial of Flight Commemoration Act, as amended.

DATES: Effective: July 18, 2002.

ADDRESSES: Sharon Foster, Executive Director, U.S. Centennial of Flight Commission, NASA Headquarters, Code I-2, 300 E Street SW, Washington, DC 20546-0001.

FOR FURTHER INFORMATION CONTACT: Sharon Foster, Executive Director, U.S. Centennial of Flight Commission, (202) 358-1903.

SUPPLEMENTARY INFORMATION:

I. Background

Section 9 of the Centennial of Flight Commemoration Act (the Act), Public Law 105-389, as amended by Public Law 106-68, authorizes the NASA Administrator to license the use of the Centennial of Flight Commission name on any logo, emblem, seal, or descriptive or designating mark adopted for use by the Administrator, after consultation with the Commission, in connection with the commemoration of the centennial of powered flight. By this rule, the Administrator delegates licensing authority in section 9 to the Assistant Administrator for Public Affairs, without authority for further delegation.

II. Matters of Regulatory Procedure

Administrative Procedure Act

Pursuant to 5 U.S.C. 553(a)(2), (b), and (d), NASA has determined that good cause exists for waiving the regular notice of proposed rulemaking, opportunity for public comments, and 30-day delayed effective date for this final rule. This action is being taken because it is in the public interest that this rule, which concerns matters of agency management, personnel, organization, practice, and procedure, be effective on the date of publication.

Small Entities

Under the Regulatory Flexibility Act (5 U.S.C. 601-612), NASA has considered whether this rule would have a significant economic impact on a substantial number of small entities. The term “small entities” comprises small businesses, not-for-profit organizations that are independently owned and operated and are not dominant in their fields, and governmental jurisdictions with populations of less than 50,000. Pursuant to 5 U.S.C. 605(b), NASA certifies that this rule will not have a significant economic impact on a substantial number of small entities because the rule only affects the operations of NASA and its employees. Accordingly, no regulatory flexibility analysis is required.

Executive Order 12866 Determination

This rule is not a “significant regulatory action” under section 3(f) of Executive Order 12866, Regulatory Planning and Review, is not subject to review under section 3(d) of that Order because it is limited to NASA's organization, management and/or personnel matters, and does not require an assessment of potential costs and benefits under section 6(a)(3) of that Order. The Office of Management and Budget has not reviewed it under that Order.

Collection of Information

This rule calls for no new collection of information under the Paperwork Reduction Act (44 U.S.C. 3501-3520).

Federalism

A rule has implications for federalism under Executive Order 13132, Federalism, if it has a substantial direct effect on State or local governments and would either preempt State law or impose a substantial direct cost of compliance on them. NASA has analyzed this rule under that Order and has determined that it does not have implications for federalism.

Unfunded Mandates Reform Act

Title II of the Unfunded Mandates Reform Act of 1995 (2 U.S.C. 1531-1538) requires Federal agencies to assess the effects of their discretionary regulatory actions. NASA has determined that the rule will not result in expenditures by State, local, or tribal governments or by the private sector of $100 million or more. The rule affects only the internal organization of NASA. Accordingly, NASA has not prepared a budgetary impact statement or specifically addressed regulatory alternatives.

List of Subjects in 14 CFR Part 1204, Subpart 5

Administrative practice and procedure, Authority delegations (Government agencies), Civil rights, Labor management relations, Organization and functions (Government agencies), Real property acquisition.

Sean O'Keefe,
Administrator, National Aeronautics and Space Administration.

For the reasons set out in the preamble, NASA amends 14 CFR part 1204, subpart 5, as follows:

PART 1204—ADMINISTRATIVE AUTHORITY AND POLICY

Subpart 5—Delegations and Designations

1. The authority citation for subpart 5 is revised to read as follows:

Authority: 42 U.S.C. 2473; 36 U.S.C. 143.

2. Add § 1204.506 to subpart 5 to read as follows:

§ 1204.506 Delegation of authority to license the use of the Centennial of Flight Commission name.

(a) Delegation of authority. The Assistant Administrator for Public Affairs is delegated the authority of section 9 of the Centennial of Flight Commemoration Act, as amended (Pub. L. 105-389) to license the use of the Centennial of Flight Commission name on any logo, emblem, seal, or descriptive or designating mark adopted for use by the Administrator in commemorating the centennial of powered flight.

(b) Redelegation. The authority delegated in paragraph (a) of this section may not be redelegated.

[FR Doc. 02-17989 Filed 7-17-02; 8:45 am]

BILLING CODE 7510-01-P